DEPARTMENT OF ENERGY

Federal Energy Regulatory Commission

[Docket No. RP01-612-002]

ANR Pipeline Company; Notice of Compliance Filing

April 18, 2002.

Take notice that on April 15, 2002, ANR Pipeline Company (ANR), tendered for filing an explanatory statement and Substitute Original Sheet No. 75G.02, Substitute Original Sheet No. 75G.03 and Substitute Seventh Revised Sheet No. 89.

ANR requests that the revised tariff sheets be made effective March 31, 2002. ANR states that the tariff sheets and explanatory statement are being filed in compliance with the Commission's March 15, 2002 order accepting the tariff sheets subject to ANR providing an explanation and further revisions to the tariff sheets to clarify the issues regarding ANR's proposed Associated Liquefiables pro forma Agreement.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson,
Deputy Secretary.

[FR Doc. 02-10015 Filed 4-23-02; 8:45 am]

BILLING CODE 6717-01-P